DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons and aircraft that have been placed on OFAC's Specially Designated Nationals and Blocked Persons List based on OFAC's determination that one or more applicable legal criteria were satisfied. All property and interests in property subject to U.S. jurisdiction of these persons and these aircraft are blocked, and U.S. persons are generally prohibited from engaging in transactions with them.

DATES: See Supplementary Information section for effective date(s).

FOR FURTHER INFORMATION CONTACT: OFAC: Associate Director for Global Targeting, tel.: 202-622-2420; Assistant Director for Sanctions Compliance & Evaluation, tel.: 202-622-2490; Assistant Director for Licensing, tel.: 202-622-2480; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treas.gov/ofac).

Notice of OFAC Actions

On January 24, 2019, OFAC determined that the property and interests in property subject to U.S. jurisdiction of the following persons and the following aircraft subject to U.S. jurisdiction are blocked under the relevant sanctions authorities listed below.

Entities

1. ISLAMIC REVOLUTIONARY GUARD CORPS (IRGC)-QODS FORCE (a.k.a. PASDARAN-E ENGHELAB-E ISLAMI (PASDARAN); a.k.a. SEPAH-E QODS (JERUSALEM FORCE)); Additional Sanctions Information—Subject to Secondary Sanctions [SDGT] [SYRIA] [IRGC] [IFSR] [IRAN-HR].

Designated pursuant to section 1(a)(ii)(C) of E.O. 13553 for being owned or controlled by, or having acted or purported to act for or on behalf of, Iran's ISLAMIC REVOLUTIONARY GUARD CORPS, a person determined to be subject to E.O. 13553.

2. FATEMIYOUN DIVISION (a.k.a. FATEMIOUN BRIGADE; a.k.a. FATEMIOUN MILITARY DIVISION; a.k.a. FATEMIYOUN; a.k.a. FATEMIYOUN BATTALION; a.k.a. FATEMIYOUN FORCE; a.k.a. FATEMIYYUN; a.k.a. LIWA FATEMIYOUN), Syria; Iran; Additional Sanctions Information—Subject to Secondary Sanctions [SDGT] [IRGC] [IFSR] [IRAN-HR] (Linked To: ISLAMIC REVOLUTIONARY GUARD CORPS (IRGC)-QODS FORCE).

Designated pursuant to section 1(d)(i) of E.O. 13224 for assisting in, sponsoring, or providing financial, material, or technological support for, or financial or other services to or in support of, Iran's IRGC-QF, a person determined to be subject to E.O. 13224.

Designated pursuant to section 1(a)(ii)(B) of E.O. 13553 for having materially assisted, sponsored, or provided financial, material, or technological support for, or goods or services in support of, of Iran's IRGC-QF, a person determined to be subject to E.O. 13553.

3. ZAYNABIYOUN BRIGADE (a.k.a. LIWA ZAYNABIYOUN; a.k.a. ZEYNABIYUN BRIGADE; a.k.a. ZEYNABIYYUN; a.k.a. ZEYNABIYYUN BRIGADE), Syria; Iran; Additional Sanctions Information—Subject to Secondary Sanctions [SDGT] [IRGC] [IFSR] [IRAN-HR] (Linked To: ISLAMIC REVOLUTIONARY GUARD CORPS (IRGC)-QODS FORCE).

Designated pursuant to section 1(d)(i) of E.O. 13224 for assisting in, sponsoring, or providing financial, material, or technological support for, or financial or other services to or in support of, Iran's IRGC-QF, a person determined to be subject to E.O. 13224.

Designated pursuant to section 1(a)(ii)(B) of E.O. 13553 for having materially assisted, sponsored, or provided financial, material, or technological support for, or goods or services in support of, of Iran's IRGC-QF, a person determined to be subject to E.O. 13553.

4. QESHM FARS AIR (a.k.a. FARS AIR CARGO AIRLINE; a.k.a. FARS AIR QESHM; a.k.a. FARS QESHM AIR; a.k.a. FARS QESHM AIRLINES; a.k.a. FRAS AIR PVT. CO.), No 1, Laleh Dd End, Azadegan St., Karaj Highway, Tehran, Iran; Additional Sanctions Information—Subject to Secondary Sanctions [SDGT] [IFSR] (Linked To: MAHAN AIR; Linked To: ISLAMIC REVOLUTIONARY GUARD CORPS (IRGC)-QODS FORCE).

Designated pursuant to section 1(c) of E.O. 13224 for being owned or controlled by Iran's MAHAN AIR, a person determined to be subject to E.O. 13224.

Designated pursuant to section 1(d)(i) of E.O. 13224 for assisting in, sponsoring, or providing financial, material, or technological support for, or financial or other services to or in support of, Iran's IRGC-QF, a person determined to be subject to E.O. 13224.

5. FLIGHT TRAVEL LLC, 50 Nalbandyan Street, Yerevan, Armenia; Email Address flighttravelevn@gmail.com; Additional Sanctions Information—Subject to Secondary Sanctions [SDGT] [IFSR] (Linked To: MAHAN AIR).

Designated pursuant to section 1(c) of E.O. 13224 for acting for or on behalf of Iran's MAHAN AIR, a person determined to be subject to E.O. 13224.

Aircraft

1. EP-FAA; Aircraft Manufacture Date 16 Oct. 1990; Aircraft Model Boeing B747; Aircraft Manufacturer's Serial Number (MSN) 24576; Additional Sanctions Information—Subject to Secondary Sanctions (aircraft) [SDGT] [IFSR] (Linked To: QESHM FARS AIR).

Blocked pursuant to E.O. 13224 for being property in which QESHM FARS AIR, a person whose property and interest in property are blocked, has an interest.

2. EP-FAB; Aircraft Manufacture Date 04 Nov. 1991; Aircraft Model Boeing B747; Aircraft Manufacturer's Serial Number (MSN) 25171; Additional Sanctions Information—Subject to Secondary Sanctions (aircraft) [SDGT] [IFSR] (Linked To: QESHM FARS AIR).

Blocked pursuant to E.O. 13224 for being property in which QESHM FARS AIR, a person whose property and interest in property are blocked, has an interest.

Dated: January 24, 2019.
Andrea M. Gacki,
Director, Office of Foreign Assets Control.

Editorial Note: This document was received for publication by the Office of the Federal Register on April 28, 2020.

[FR Doc. 2020-09359 Filed 5-1-20; 8:45 am]

BILLING CODE 4810-AL-P